DEPARTMENT OF LABOR

Occupational Safety and Health Administration

[Docket Nos. OSHA-2007-0041]

FM Approvals: Application for Expansion of Recognition; Wyle Laboratories: Voluntary Modification of the Scope of Recognition; and Temporary Reinstatement of NFPA 72

AGENCY: Occupational Safety and Health Administration (OSHA), Labor.

ACTION: Notice.

SUMMARY: This notice announces the application of FM Approvals LLC (FM) for expansion of its recognition as a Nationally Recognized Testing Laboratory (NRTL), and presents the Agency's preliminary finding to grant this request. This preliminary finding does not constitute an interim or temporary approval of this application. This notice also announces a voluntary modification of the NRTL scope of recognition of Wyle Laboratories, Inc., and the temporary reinstatement of NFPA 72.

DATES: For the FM application, submit information or comments, or any request for extension of the time to comment, on or before March 17, 2010. All submissions must bear a postmark or provide other evidence of the submission date.

The modification of the NRTL scope of recognition of Wyle Laboratories will become effective on March 2, 2010. The temporary reinstatement of NFPA 72 is retroactive to September 14, 2009 and will terminate on September 14, 2011. Do not submit comments or other responses regarding this modification or reinstatement.

ADDRESSES: Submit comments by any of the following methods:

Electronically: Submit comments electronically at http://www.regulations.gov, which is the Federal eRulemaking Portal. Follow the instructions online for making electronic submissions.

Fax: If submissions, including attachments, are no longer than 10 pages, commenters may fax them to the OSHA Docket Office at (202) 693-1648.

Mail, hand delivery, express mail, or messenger or courier service: Submit one copy of the comments to the OSHA Docket Office, Docket No. OSHA-2007-0041, U.S. Department of Labor, Room N-2625, 200 Constitution Avenue, NW., Washington, DC 20210. Deliveries (hand, express mail, and messenger and courier service) are accepted during the Department of Labor's and Docket Office's normal business hours, 8:15 a.m.-4:45 p.m., e.t.

Instructions: All submissions must include the Agency name and the OSHA docket number (i.e., OSHA-2007-0041). OSHA will place all submissions, including any personal information provided, in the public docket without revision, and these may be made available online at http://www.regulations.gov.

Docket: To read or download submissions or other material in the docket, go to http://www.regulations.gov or the OSHA Docket Office at the address above. All documents in the docket are listed in the http://www.regulations.gov index; however, some information (e.g., copyrighted material) is not publicly available to read or download through the Web site. All submissions, including copyrighted material, are available for inspection and copying at the OSHA Docket Office.

Extension of comment period: Submit requests for an extension of the comment period for the FM application on or before March 17, 2010 to the Office of Technical Programs and Coordination Activities, NRTL Program, Occupational Safety and Health Administration, U.S. Department of Labor, 200 Constitution Avenue, NW., Room N-3655, Washington, DC 20210, or by fax to (202) 693-1644.

FOR FURTHER INFORMATION CONTACT: MaryAnn Garrahan, Director, Office of Technical Programs and Coordination Activities, NRTL Program, Occupational Safety and Health Administration, U.S. Department of Labor, 200 Constitution Avenue, NW., Room N-3655, Washington, DC 20210; telephone: (202) 693-2110. For information about the NRTL Program, go to http://www.osha.gov, and select “N” in the site index.

SUPPLEMENTARY INFORMATION: Electronic copies this Federal Register notice are available at http://www.regulations.gov. This notice, as well as news releases and other information also are available at OSHA's Web Page at http://www.osha.gov.

I. Notice of Expansion Application

The Occupational Safety and Health Administration (OSHA) is providing notice that FM Approvals LLC (FM) applied for expansion of its current recognition as a Nationally Recognized Testing Laboratory (NRTL). FM's expansion request covers the use of additional test standards.

OSHA recognition of an NRTL signifies that the organization meets the legal requirements specified in 29 CFR 1910.7. Recognition is an acknowledgment that the organization can perform independent safety testing and certification of the specific products covered within its scope of recognition, and is not a delegation or grant of government authority. As a result of recognition, employers may use products approved by the NRTL to meet OSHA standards that require testing and certification.

The Agency processes applications by an NRTL for initial recognition, or for an expansion or renewal of this recognition, following requirements in Appendix A to 29 CFR 1910.7. This appendix requires that the Agency publish two notices in the Federal Register in processing an application. In the first notice, OSHA announces the application and provides its preliminary finding, and, in the second notice, the Agency provides its final decision on the application. These notices set forth the NRTL's scope of recognition or modifications of that scope. OSHA maintains an informational Web page for each NRTL that details its scope of recognition. These pages can be accessed from the Web site at http://www.osha.gov/dts/otpca/nrtl/index.html. Each NRTL's scope of recognition has three elements: (1) The type of products the NRTL may test, with each type specified by its applicable test standard; (2) the recognized site(s) that have the technical capability to perform the testing and certification activities for test standards within the NRTL's scope; and (3) the supplemental program(s) that the NRTL may use, each of which allows the NRTL to rely on other parties to perform activities necessary for testing and certification.

The current address of the FM facilities (sites) recognized by OSHA are: FM Approvals, 1151 Boston-Providence Turnpike, Norwood, Massachusetts 02062, and FM Approvals, 743 Reynolds Road, West Gloucester, Rhode Island 02814.

General Background on the Application

FM submitted an application, dated July 18, 2007, to expand its recognition to include 31 additional test standards. The NRTL Program staff is deferring action on 20 of these standards pending resolution of technical issues. The staff determined that ten of the remaining 11 standards are “appropriate test standards” within the meaning of 29 CFR 1910.7(c). In connection with this request, NRTL Program staff did not perform an on-site review of FM's recognized sites. However, the staff analyzed other information pertinent to the request and determined that FM has the capabilities to perform the testing relating to the ten standards, which are listed below. As a result, the Agency would approve these ten test standards for the expansion.

FM seeks expansion of its recognition for testing and certification of products to the following test standards:¹

¹ The designations and titles of these test standards were current at the time of the preparation of this notice.

UL 153 Portable Electric Luminaires²

² FM requested recognition for UL 298—Portable Electric Hand Lamps, but this standard has been withdrawn and superseded by UL 153.

UL 268A Smoke Detectors for Duct Application

UL 484 Room Air Conditioners

UL 521 Heat Detectors for Fire Protective Signaling Systems

UL 1480 Speakers for Fire Alarm, Emergency, and Commercial and Professional Use

UL 1638 Visual Signaling Appliances—Private Mode Emergency and General Utility Signaling

FM 3210 Heat Detectors for Automatic Fire Alarm Signaling

FM 7260 Electrostatic Finishing Equipment

UL 61010A-1 Electrical Equipment for Laboratory Use; Part 1: General Requirements

UL 61010B-1 Electrical Measuring and Test Equipment; Part 1: General Requirements

OSHA's recognition of FM, or any NRTL, for a test standard is limited to equipment or materials (i.e., products) for which OSHA standards require third-party testing and certification before use in the workplace. Consequently, if a test standard also covers any product(s) for which OSHA does not require such testing and certification, an NRTL's scope of recognition does not include that product(s).

The test standards listed above may be approved as American National Standards by the American National Standards Institute (ANSI). However, for clarity, we use the designation of the standards developing organization for the standard as opposed to the ANSI designation. Under our procedures, any NRTL recognized for an ANSI-approved test standard may use either the latest proprietary version of the test standard or the latest ANSI version of that standard. You may contact ANSI for information on whether a test standard is currently ANSI-approved.

Preliminary Finding on the Application

FM submitted an acceptable request for expansion of its recognition as an NRTL. Our review of the application file and other pertinent documents indicates that FM can meet the requirements, as prescribed by 29 CFR 1910.7, for an expansion of its recognition to include the additional test standards listed above. This preliminary finding does not constitute an interim or temporary approval of the application.

OSHA welcomes public comments, in sufficient detail, as to whether FM meets the requirements of 29 CFR 1910.7 for expansion of its recognition as a Nationally Recognized Testing Laboratory. Your comments should consist of pertinent written documents and exhibits. Should you need more time to comment, you must request it in writing, including reasons for the request. OSHA must receive your written request for an extension by the due date for comments. OSHA will limit any extension to 30 days unless the requester justifies a longer period. We may deny a request for an extension if it is not adequately justified. You may obtain or review copies of FM's request and other pertinent documents, and all submitted comments, as received, by contacting the Docket Office, Room N-2625, Occupational Safety and Health Administration, U.S. Department of Labor, at the above address. Docket No. OSHA-2007-0041 contains all materials in the record concerning FM's application.

The NRTL Program staff will review all timely comments and, after resolution of issues raised by these comments, will recommend whether to grant FM's expansion request. The Assistant Secretary will make the final decision on granting the request, and, in making this decision, may undertake other proceedings that are prescribed in Appendix A to 29 CFR 1910.7. OSHA will publish a public notice of this final decision in the Federal Register.

II. Notice of Modification of Wyle's Recognition

Wyle Laboratories, Inc., (WL) has requested a modification to its current scope of recognition under the NRTL Program. This request, dated August 27, 2009, reduces the number of test standards in WL's current NRTL scope. Subsection II.D of Appendix A to 29 CFR 1910.7 provides that OSHA must inform the public of such a reduction in scope. Accordingly, effective today, OSHA is modifying WL's scope of recognition to eliminate the 38 test standards listed below. Wyle also requested removal of another test standard (UL 1262); however, OSHA removed it earlier from Wyle's scope of recognition.

UL 8 Foam Fire Extinguishers

UL 20 General-Use Snap Switches

UL 92 Fire Extinguisher and Booster Hose

UL 98 Enclosed and Dead-Front Switches

UL 244A Solid-State Controls for Appliances

UL 299 Dry Chemical Fire Extinguishers

UL 363 Knife Switches

UL 393 Indicating Pressure Gauges for Fire-Protection Service

UL 444 Communications Cables

UL 466 Electric Scales

UL 497A Secondary Protectors for Communication Circuits

UL 506 Specialty Transformers

UL 626 2½; Gallon Stored-Pressure Water-Type Fire Extinguishers

UL 711 Rating and Fire Testing of Fire Extinguishers

UL 796 Printed-Wiring Boards

UL 917 Clock-Operated Switches

UL 1022 Line Isolated Monitors

UL 1047 Isolated Power Systems Equipment

UL 1053 Ground-Fault Sensing and Relaying Equipment

UL 1054 Special-Use Switches

UL 1058 Halogenated Agent Extinguishing System Units

UL 1091 Butterfly Valves for Fire-Protection Service

UL 1093 Halogenated Agent Fire Extinguishers

UL 1254 Pre-Engineered Dry Chemical Extinguishing Systems Units

UL 1411 Transformers and Motor Transformer for Use in Audio-, Radio-, and Television-Type Appliances

UL 1412 Fusing Resistors and Temperature-Limited Resistors for Radio- and Television-Type Appliances

UL 1416 Overcurrent and Overtemperature Protectors for Radio and Television-Type Appliances

UL 1424 Cables for Power-Limited Fire-Protective-Signaling Circuits

UL 1429 Pullout Switches

UL 1474 Adjustable Drop Nipples for Sprinkler Systems

UL 1481 Power Supplies for Fire-Protective Signaling Systems

UL 1486 Quick Opening Devices for Dry Pipe Valves for Fire-Protection Service

UL 1557 Electrically Isolated Semiconductor Devices

UL 1577 Optical Isolators

UL 1682 Plugs, Receptacles and Cable Connectors, of the Pin and Sleeve Type

UL 1876 Isolating Signal and Feedback Transformers for Use in Electronic Equipment

UL 2006 Halon 1211 Recovery/Recharge Equipment

UL 2111 Overheating Protection for Motors

III. Temporary Reinstatement of NFPA 72

On September 14, 2009, OSHA published a notice (see 74 FR 47026) to modify the scopes of recognition (“scopes”) of several NRTLs because standards developing organizations (SDOs) withdrew a number of test standards from their catalog of published standards. Consequently, these NRTLs could no longer use the withdrawn test standards to certify selected products requiring certification under OSHA standards. In response to the SDOs' action, OSHA's 2009 Federal Register notice deleted the withdrawn standards from the scope of each affected NRTL, and added to the NRTL's scopes any known replacement standard(s).

One of the withdrawn standards was ANSI/NFPA 72—Installation, Maintenance, and Use of Protective Signaling Systems. The National Fire Protection Association (NFPA) withdrew this test standard several years ago after integrating it into the National Fire Alarm and Signaling Code (NFASC), also designated NFPA 72. However, OSHA's 2009 Federal Register notice did not list the NFASC document as a replacement for NFPA 72 because the NRTL Program requirements do not allow NRTLs to include general consensus codes or other similar standards in their scopes of recognition. Such standards do not meet the NRTL Program's requirements for an “appropriate test standard,” i.e., the standards do not primarily specify testing requirements for particular types of products.

After OSHA deleted the NFPA 72 standard, several NRTLs contacted OSHA to request recognition for the NFASC. One NRTL informed OSHA that deleting the test standard so abruptly invalidated approvals for many products. The NRTLs requested a two-year transition period to identify a comparable replacement test standard to use in certifying the affected products.

When OSHA determines that a comparable replacement test standard is not available, it may delay the effective date for deleting a withdrawn test standard from NRTLs' scopes so the affected NRTLs can continue certifying products while identifying a comparable replacement standard. Accordingly, OSHA is temporarily reinstating NFPA 72 to the scopes of the affected NRTLs. The reinstatement period is retroactive to September 14, 2009, the date the standard was removed from these NRTLs' scopes, and ends September 14, 2011. By September 14, 2010, each affected NRTL wishing to continue certifying the affected products must notify OSHA of the name(s) of comparable replacement test standard(s) the NRTL will use in place of NFPA 72. If not already in the NRTL's scope, OSHA will add any such standard that is “appropriate,” provided the NRTL has the capability for the testing. By September 14, 2011, OSHA will remove NFPA 72 from all NRTLs' scope, and these NRTLs must cease certifying products to NFPA 72, and certify products to the comparable replacement standard(s) in their scopes.

IV. Authority and Signature

David Michaels, PhD, MPH, Assistant Secretary of Labor for Occupational Safety and Health, 200 Constitution Avenue, NW., Washington, DC 20210, directed the preparation of this notice. Accordingly, the Agency is issuing this notice pursuant to Sections 6(b) and 8(g) of the Occupational Safety and Health Act of 1970 (29 U.S.C. 655 and 657), Secretary of Labor's Order No. 5-2007 (72 FR 31160), and 29 CFR part 1911.

Signed at Washington, DC, on February 22, 2010.
David Michaels,
Assistant Secretary for Occupational Safety and Health.

[FR Doc. 2010-4197 Filed 3-1-10; 8:45 am]

BILLING CODE 4510-26-P